ENVIRONMENTAL PROTECTION AGENCY

[EPA-HQ-OW-2015-0335; FRL-9943-13-OW]

Request for Public Comment on the Draft EPA-USGS Technical Report: Protecting Aquatic Life From Effects of Hydrologic Alteration

AGENCY: Environmental Protection Agency (EPA) and United States Geological Survey (USGS).

ACTION: Notice of availability.

SUMMARY: The Environmental Protection Agency (EPA) and the United States Geological Survey are releasing a draft technical report: Protecting Aquatic Life from Effects of Hydrologic Alteration, for a 60-day public comment period. This report was developed because hydrologic alteration can be a contributor of impairment for water bodies that are designated to support aquatic life. Stresses on aquatic life associated with hydrologic alteration may be further exacerbated through climate change. Recent climate trends have included the change in frequency and duration of extreme weather events, such as droughts and floods, which can have an impact on flow and affect aquatic life.

The report is a nonprescriptive framework with information to help states, tribes, territories, water resource managers, and other stakeholders responsible for the maintenance of hydrologic flow regime to quantify flow targets for the preservation of aquatic life and habitat. This report also provides information on the relationship between hydrologic condition and water quality and gives examples of what some states and authorized tribes have done to address flow concerns using the Clean Water Act. The framework can also be used to translate narrative criteria and develop flow targets to protect aquatic life and habitat.

DATES: Comments must be received on or before May 2, 2016.

ADDRESSES: Submit your comments, identified by Docket ID No. EPA-HQ-OW-2015-0335, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Diana Eignor, Health and Ecological Criteria Division, Office of Water (Mail Code 4304T), Environmental Protection Agency, 1200 Pennsylvania Avenue NW., Washington, DC 20460; telephone number: (202) 566-1143; email address: eignor.diana@epa.gov.

SUPPLEMENTARY INFORMATION:

I. General Information

A. How can I Get Copies of This Document and Other Related Information?

1. Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426. For additional information about EPA's public docket, visit EPA Docket Center homepage at http://www.epa.gov/epahome/dockets.htm.

II. How will this document be used?

This draft report is a nonprescriptive framework that can be used to help quantify targets for flow regime components that are protective of aquatic life and their habitats. Flow targets can help states, tribes, and territories to prepare for changes in historic flow patterns. Maintaining flow targets may help increase a stream's resilience to climate change by reducing or avoiding intensification of existing stresses. This document, even after issued in final form, is not a rule, and it is therefore not mandatory for states and authorized tribes to adopt this framework into their water quality standards. Once the comment period has ended, EPA and the USGS will consider the comments, revise the document, as appropriate, and then publish a final document that will serve as a source of information for states, tribes, territories, and other stakeholders.

III. Solicitation of Scientific Views

EPA and USGS are soliciting additional scientific views, data, and information regarding the science and technical approach used in the derivation of this draft technical document on hydrologic alteration.

IV. Additional Information

EPA and USGS each conducted internal peer reviews of the report, and EPA managed a contractor-led independent external peer review of the Draft EPA-USGS Technical Report: Protecting Aquatic Life from Effects of Hydrologic Alteration. EPA will make the external peer review comments and Agency responses to these comments available in the docket with the revised draft technical document at http://www.regulations.gov.

Dated: February 22, 2016.
Joel Beauvais,
Deputy Assistant Administrator, Office of Water.

[FR Doc. 2016-04448 Filed 2-29-16; 8:45 am]

BILLING CODE 6560-50-P